DEPARTMENT OF ENERGY

Federal Energy Regulatory Commission

Combined Notice of Filings #1

Take notice that the Commission received the following electric corporate filings:

Docket Numbers: EC25-43-000.

Applicants: CONSTELLATION ENERGY CORPORATION, Constellation Energy Generation, LLC, Calpine Corporation.

Description: Supplement to 01/24/2025, Joint Application for Authorization Under Section 203 of the Federal Power Act of Constellation Energy Corporation, et al.

Filed Date: 6/12/25.

Accession Number: 20250612-5215.

Comment Date: 5 p.m. ET 6/23/25.

Docket Numbers: EC25-102-000.

Applicants: NRG East Generation Holdings LLC, NRG Demand Response Holdings LLC, Lightning Power, LLC, Enerwise Global Technologies, LLC dba CPower.

Description: Joint Application for Authorization Under Section 203 of the Federal Power Act of NRG East Generation Holdings LLC, et al.

Filed Date: 6/12/25.

Accession Number: 20250612-5217.

Comment Date: 5 p.m. ET 7/3/25.

Take notice that the Commission received the following exempt wholesale generator filings:

Docket Numbers: EG25-353-000.

Applicants: AL Solar G, LLC.

Description: AL Solar G, LLC submits Notice of Self-Certification of Exempt Wholesale Generator Status.

Filed Date: 6/12/25.

Accession Number: 20250612-5171.

Comment Date: 5 p.m. ET 7/3/25.

Docket Numbers: EG25-354-000.

Applicants: AL Solar H, LLC.

Description: AL Solar H, LLC submits Notice of Self-Certification of Exempt Wholesale Generator Status.

Filed Date: 6/12/25.

Accession Number: 20250612-5173.

Comment Date: 5 p.m. ET 7/3/25.

Docket Numbers: EG25-355-000.

Applicants: Emerald Green Solar LLC.

Description: Emerald Green Solar LLC submits Notice of Self-Certification of Exempt Wholesale Generator Status.

Filed Date: 6/13/25.

Accession Number: 20250613-5100.

Comment Date: 5 p.m. ET 7/7/25.

Take notice that the Commission received the following electric rate filings:

Docket Numbers: ER20-1746-001.

Applicants: GridLiance West LLC.

Description: Compliance filing: Gridliance West Order No. 864 Supplemental Compliance Filing to be effective 1/27/2020.

Filed Date: 6/13/25.

Accession Number: 20250613-5060.

Comment Date: 5 p.m. ET 7/7/25.

Docket Numbers: ER25-1632-002.

Applicants: PJM Interconnection, L.L.C.

Description: Tariff Amendment: Amendment of ER25-1632-001 re: Amendment of GIA SA No. 7592; AE2-276 to be effective 6/22/2025.

Filed Date: 6/13/25.

Accession Number: 20250613-5163.

Comment Date: 5 p.m. ET 7/7/25.

Docket Numbers: ER25-1975-001.

Applicants: ConocoPhillips Company.

Description: Tariff Amendment: Response to Deficiency Notice in Docket ER25-1975 to be effective 6/1/2025.

Filed Date: 6/13/25.

Accession Number: 20250613-5073.

Comment Date: 5 p.m. ET 7/7/25.

Docket Numbers: ER25-2507-000.

Applicants: Ventasso Energy Storage, LLC.

Description: § 205(d) Rate Filing: Ventasso Energy Storage, LLC Market Based Rate to be effective 8/15/2025.

Filed Date: 6/12/25.

Accession Number: 20250612-5191.

Comment Date: 5 p.m. ET 7/3/25.

Docket Numbers: ER25-2508-000

Applicants: LPH Marketing, LLC.

Description: § 205(d) Rate Filing: LPH Marketing LLC Market Based Rate Application to be effective 8/12/2025.

Filed Date: 6/12/25.

Accession Number: 20250612-5198.

Comment Date: 5 p.m. ET 7/3/25.

Docket Numbers: ER25-2509-000.

Applicants: PJM Interconnection, L.L.C.

Description: § 205(d) Rate Filing: Amendment to ISA, Service Agreement No. 6429; Queue Position No. AC2-023 to be effective 8/13/2025.

Filed Date: 6/13/25.

Accession Number: 20250613-5022.

Comment Date: 5 p.m. ET 7/7/25.

Docket Numbers: ER25-2510-000.

Applicants: Midcontinent Independent System Operator, Inc.

Description: § 205(d) Rate Filing: 2025-06-13_SA 3740 Entergy Louisiana-Willis Pond 3rd Rev GIA (J1421) to be effective 6/11/2025.

Filed Date: 6/13/25.

Accession Number: 20250613-5035.

Comment Date: 5 p.m. ET 7/7/25.

Docket Numbers: ER25-2511-000.

Applicants: Midcontinent Independent System Operator, Inc., Union Electric Company.

Description: § 205(d) Rate Filing: Union Electric Company submits tariff filing per 35.13(a)(2)(iii: 2025-06-13_SA 4496 Ameren Missouri-Ameren Missouri E&P (R1057) to be effective 6/14/2025.

Filed Date: 6/13/25.

Accession Number: 20250613-5039.

Comment Date: 5 p.m. ET 7/7/25.

Docket Numbers: ER25-2512-000.

Applicants: Faraday Solar B LLC.

Description: § 205(d) Rate Filing: Faraday Solar Market-Based Rate to be effective 6/15/2025.

Filed Date: 6/13/25.

Accession Number: 20250613-5043.

Comment Date: 5 p.m. ET 7/7/25.

Docket Numbers: ER25-2513-000.

Applicants: New York State Electric & Gas Corporation.

Description: § 205(d) Rate Filing: NYSEG-NYPA Attachment C—O&M Annual Update to be effective 9/1/2025.

Filed Date: 6/13/25.

Accession Number: 20250613-5115.

Comment Date: 5 p.m. ET 7/7/25.

Docket Numbers: ER25-2514-000.

Applicants: Green Country Energy, LLC.

Description: Tariff Amendment: Notice of Cancellation to be effective 12/31/9998.

Filed Date: 6/13/25.

Accession Number: 20250613-5124.

Comment Date: 5 p.m. ET 7/7/25.

Docket Numbers: ER25-2515-000.

Applicants: New York Independent System Operator, Inc.

Description: Tariff Amendment: Notice of Cancellation: LGIA SA2847 among NYISO, LIPA, & Yaphank Energy Storage to be effective 8/13/2025.

Filed Date: 6/13/25.

Accession Number: 20250613-5142.

Comment Date: 5 p.m. ET 7/7/25.

Docket Numbers: ER25-2516-000.

Applicants: Central Maine Power Company.

Description: § 205(d) Rate Filing: Third Amended and Restated Interconnection Agreement Sappi North America, Inc. to be effective 5/17/2025.

Filed Date: 6/13/25.

Accession Number: 20250613-5166.

Comment Date: 5 p.m. ET 7/7/25.

Docket Numbers: ER25-2517-000.

Applicants: Angiola East, LLC.

Description: § 205(d) Rate Filing: Market-Based Rate Application and Requests for Waivers and Blanket Approvals to be effective 8/13/2025.

Filed Date: 6/13/25.

Accession Number: 20250613-5170.

Comment Date: 5 p.m. ET 7/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 13, 2025.
Carlos D. Clay,
Deputy Secretary.

[FR Doc. 2025-11267 Filed 6-17-25; 8:45 am]

BILLING CODE 6717-01-P